DEPARTMENT OF THE INTERIOR

National Park Service

[NPS-WASO-NAGPRA-NPS0035859; PPWOCRADN0-PCU00RP14.R50000]

Notice of Inventory Completion: Wasco County/Dalles City Museum Commission, The Dalles, OR

AGENCY: National Park Service, Interior.

ACTION: Notice.

SUMMARY: In accordance with the Native American Graves Protection and Repatriation Act (NAGPRA), the Wasco County/Dalles City Museum Commission has completed an inventory of human remains and associated funerary objects and has determined that there is a cultural affiliation between the human remains and associated funerary objects and Indian Tribes or Native Hawaiian organizations in this notice. The human remains and associated funerary objects were removed from unknown burial sites on the banks of the Columbia River (between Washington and Oregon) of the Columbia River Plateau.

DATES: Repatriation of the human remains and associated funerary objects in this notice may occur on or after June 20, 2023.

ADDRESSES: Susan Buce, Columbia Gorge Discovery Center & Museum, 5000 Discovery Drive, The Dalles, OR 97058, telephone (541) 296-3202, email collections@gorgediscovery.org or Eric Gleason, Vice-President, Wasco County/Dalles City Museum Commission, c/o Fort Dalles Museum, 500 W 15th Street, The Dalles, OR 97058, telephone (541) 296-4547, email fortdallesmuseum@gmail.com.

SUPPLEMENTARY INFORMATION: This notice is published as part of the National Park Service's administrative responsibilities under NAGPRA. The determinations in this notice are the sole responsibility of the Wasco County/Dalles City Museum Commission. The National Park Service is not responsible for the determinations in this notice. Additional information on the determinations in this notice, including the results of consultation, can be found in the inventory or related records held by the Wasco County/Dalles City Museum Commission.

Description

Human remains representing, at minimum, one individual were removed from an unknown burial site along the banks or islands of the Columbia River near The Dalles, OR, and Wishram, WA. In 1971, human remains represented by a skull with lower jaw and 14 teeth—belonging to an adult female were donated to the Museum by Walter Kinnersley. No known individual was identified. No associated funerary objects are present.

Human remains representing, at minimum, two individuals were removed from the banks of the Columbia River near The Dalles, OR, most likely “Memaloose Island.” At an unknown date, a box containing the human remains and associated funerary objects was donated to the Museum by an unknown individual. The human remains represent a female of unknown age and an individual of unknown age and sex. No known individuals were identified. The seven associated funerary objects are one lot consisting of cloth (with yellow, pink and green flowers), one lot consisting of leaves, one lot consisting of soil, one lot consisting of historic nails, one lot consisting of shells, one lot consisting of rocks, and one lot consisting of basketry.

Native American People from both sides of the Columbia River utilized the islands on the Columbia River bordering the present-day states of Oregon and Washington, in the north central Columbia River Plateau region, for burials, as well as sites located along that river. Published ethnographic documentation indicates that this area was the aboriginal territory of the Western Columbia River Sahaptins, Wasco, Wishram, Yakima, Walla Walla, Umatilla, Tenino, and Skin (Daugherty 1973, Hale 1841, Hunn and French 1998, Stern 1998, French and French 1998, Mooney 1896, Murdock 1938, Ray 1936 and 1974, Spier 1936).

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical and historical.

Determinations

Pursuant to NAGPRA and its implementing regulations, and after consultation with the appropriate Indian Tribes and Native Hawaiian organizations, the Wasco County/Dalles City Museum Commission has determined that:

• The human remains described in this notice represent the physical remains of three individuals of Native American ancestry.

• The seven objects described in this notice are reasonably believed to have been placed with or near individual human remains at the time of death or later as part of the death rite or ceremony.

• There is a relationship of shared group identity that can be reasonably traced between the human remains and associated funerary objects described in this notice and the Confederated Tribes and Bands of the Yakama Nation; Confederated Tribes of the Umatilla Indian Reservation; and the Confederated Tribes of the Warm Springs Reservation of Oregon.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after June 20, 2023. If competing requests for repatriation are received, the Wasco County/Dalles City Museum Commission must determine the most appropriate requestor prior to repatriation. Requests for joint repatriation of the human remains and associated funerary objects are considered a single request and not competing requests. The Wasco County/Dalles City Museum Commission is responsible for sending a copy of this notice to the Indian Tribes identified in this notice.

Authority: Native American Graves Protection and Repatriation Act, 25 U.S.C. 3003, and the implementing regulations, 43 CFR 10.9, 10.10, and 10.14.

Dated: May 10, 2023.
Melanie O'Brien,
Manager, National NAGPRA Program.

[FR Doc. 2023-10554 Filed 5-17-23; 8:45 am]

BILLING CODE 4312-52-P